DEPARTMENT OF THE INTERIOR

Bureau of Ocean Energy Management

Outer Continental Shelf, Gulf of Mexico, Oil and Gas Lease Sales, Western Planning Area Lease Sale 233 and Central Planning Area Lease Sale 231

AGENCY: Bureau of Ocean Energy Management (BOEM), Interior.

ACTION: Notice of Reopening of Scoping Comment Period.

Authority: This scoping comment period is published pursuant to the regulations (40 CFR 1501.7) implementing the provisions of the National Environmental Policy Act of 1969, as amended (42 U.S.C. 4321 et seq.) (NEPA).

SUMMARY: Pursuant to the regulations implementing the procedural provisions of NEPA, on July 9, 2012, BOEM announced its intent to prepare a Supplemental EIS for proposed Western Planning Area (WPA) Lease Sale 233 and Central Planning Area (CPA) Lease Sale 231 (WPA/CPA Supplemental EIS) (77 FR 40380). Due to a BOEM email address incorrectly noted in the July 9, 2012, Federal Register notice and out of an abundance of caution to ensure that BOEM receives all scoping comments, BOEM is reopening the scoping comment period.

DATES: Scoping comments for this Draft WPA/CPA Supplemental EIS will now be accepted until September 10, 2012.

SUPPLEMENTAL INFORMATION: BOEM is announcing the re-opening of the scoping process for the WPA/CPA Supplemental EIS. Throughout the scoping process, Federal, State, tribal, and local government agencies, and other interested parties have the opportunity to aid BOEM in determining the significant issues, reasonable alternatives, and potential mitigation measures to be analyzed in the WPA/CPA Supplemental EIS, as well as providing additional information. BOEM will use the NEPA commenting process to satisfy the public involvement process for Section 106 of the National Historic Preservation Act (16 U.S.C. 470f), as provided for in 36 CFR 800.2(d)(3).

Comments

All interested parties, including Federal, State, and local government agencies, and the general public, may submit written comments on the scope of the WPA/CPA Supplemental EIS, significant issues that should be addressed, alternatives that should be considered, potential mitigation measures, and the types of oil and gas activities of interest in the proposed lease sale areas.

Written scoping comments may be submitted in one of the following two ways:

(1.) In an envelope labeled “Scoping for the WPA/CPA Supplemental EIS” and mailed (or hand delivered) to Mr. Gary D. Goeke, Chief, Regional Assessment Section, Office of Environment (GM 623E), Bureau of Ocean Energy Management, Gulf of Mexico OCS Region, 1201 Elmwood Park Boulevard, New Orleans, Louisiana 70123-2394; or

(2.) BOEM email address: Ls_233-231SEIS@boem.gov.

Petitions, although accepted, do not generally provide relevant information at this stage to assist in scoping. BOEM does not consider anonymous comments. Before including your address, phone number, email address, or other personal identifying information in your comment, you should be aware that your entire comment—including your personal identifying information—may be made publicly available at any time. While you can ask us in your comment to withhold your personal identifying information from public review, we cannot guarantee that we will be able to do so. If you wish for your name and/or address to be withheld, you must state your preference prominently at the beginning of your comment.

All submissions from organizations or businesses and from individuals identifying themselves as representatives or officials of organizations or businesses will be made available for public inspection in their entirety.

FOR FURTHER INFORMATION CONTACT: For information on the WPA/CPA Supplemental EIS, scoping process, the submission of comments, or BOEM's policies associated with this notice, please contact Mr. Gary D. Goeke, Chief, Regional Assessment Section, Office of Environment (GM 623E), Bureau of Ocean Energy Management, Gulf of Mexico OCS Region, 1201 Elmwood Park Boulevard, New Orleans, Louisiana 70123-2394, telephone (504) 736-3233.

Dated: August 2, 2012.
Tommy P. Beaudreau,
Director, Bureau of Ocean Energy Management.

[FR Doc. 2012-20876 Filed 8-23-12; 8:45 am]

BILLING CODE 4310-MR-P